NUCLEAR REGULATORY COMMISSION

[Docket Nos. STN 50-528, STN 50-529, and STN 50-530]

Arizona Public Service Company, et al.; Notice of Partial Withdrawal of Application for Amendment to Facility Operating License

The U.S. Nuclear Regulatory Commission (the Commission) has granted the request of Arizona Public Service Company (the licensee) to partially withdraw its September 17, 2003, application for proposed amendments to Facility Operating License Nos. NPF-41, NPF-51, and NPF-74 for the Palo Verde Nuclear Generating Station, Units 1, 2, and 3, respectively, located in Maricopa County, Arizona.

A portion of the September 17, 2003, license amendment request proposed a change to Limiting Condition for Operation 3.1.5, Condition B, concerning control element assembly position indicators.

The Commission had previously issued a Notice of Consideration of Issuance of Amendment published in the Federal Register on December 9, 2003 (68 FR 68657). However, by letter dated February 20, 2004, the licensee partially withdrew the proposed change.

For further details with respect to this action, see the application for amendments dated September 17, 2003, and the licensee's letter dated February 20, 2004, which partially withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 23rd day of March 2004.
For the Nuclear Regulatory Commission.
Mel B. Fields,
Senior Project Manager, Section 2, Project Directorate IV, Division of Licensing Project Management, Office of Nuclear Reactor Regulation.

[FR Doc. 04-7316 Filed 3-31-04; 8:45 am]

BILLING CODE 7590-01-P